DEPARTMENT OF THE INTERIOR

National Park Service

[NPS-WASO-NAGPRA-NPS0040123; PPWOCRADN0-PCU00RP14.R50000]

Notice of Inventory Completion: Michigan State Police, Dimondale, MI

AGENCY: National Park Service, Interior.

ACTION: Notice.

SUMMARY: In accordance with the Native American Graves Protection and Repatriation Act (NAGPRA), the Michigan State Police has completed an inventory of human remains and associated funerary objects and has determined that there is no lineal descendant and no Indian Tribe or Native Hawaiian organization with cultural affiliation.

DATES: Upon request, repatriation of the human remains and associated funerary objects in this notice may occur on or after June 13, 2025.

ADDRESSES: Hanna Friedlander, Forensic Anthropologist, Michigan State Police, Intelligence Operations Division—Missing Persons Coordination Unit, 7150 Harris Drive, Dimondale, MI 48821, telephone (517) 242-5731, email friedlanderh@michigan.gov.

SUPPLEMENTARY INFORMATION: This notice is published as part of the National Park Service's administrative responsibilities under NAGPRA. The determinations in this notice are the sole responsibility of the Michigan State Police, and additional information on the determinations in this notice, including the results of consultation, can be found in its inventory or related records. The National Park Service is not responsible for the determinations in this notice.

Abstract of Information Available

Human remains representing, at least, 10 individuals have been identified. The 194 possible associated funerary objects include stone/flint fragments, pottery fragments, wood pieces, and one non-human bone. On April 10, 2007, human remains, and other grave objects were found in an apartment in Warren, MI, by the tenant's ex-wife. The box was labelled “Native American skulls,” and turned over to the Warren Police Department (Case Number 07-18811), and then the Macomb County Medical Examiner in 2007 (Case Number 07-21845). The remains and associated artifacts were sent to the Michigan State University, where they were assessed by Dr. Norm Sauer, and determined to be Native American (Case Numbers assigned and listed are FA-017-07, FA-018-07, FA-019-07). FORDISC and cranial assessments were used to make this determination. It was noted some of the remains had been glued together by the apartment tenant. Other remains had tags with catalogue or item numbers on them, and some remains were written on with ink, including one skull with the words “Indian Mound Tenn.” There is a minimum number of 10 individuals noted, with one subadult (the rest, adults). The box was sent back to the Macomb County Medical Examiner, where it sat until February 10, 2025, when the Michigan State Police (MSP) Forensic Anthropologist was notified to assist with the repatriation. Subsequently, Ms. Hanna Friedlander collected the human remains and transferred them to temporary holding at the Michigan State Police Headquarters in Dimondale, MI. No known individuals were identified. There are an additional 14 items, which include one lot of concrete pieces, one lot of toothpicks/matchsticks, a screw, and one lot of ID tags (“Scott's Store”) located with the remains and objects. Some of the skeletal elements were written on with ink or pencil; some have been glued together by the individual who “collected” the remains initially. The Michigan State Police are unaware of any hazardous substances being used to treat the human remains or associated funeral objects.

Consultation

Invitations to consult were sent to the Absentee-Shawnee Tribe of Indians, Oklahoma; Bad River Band of the Lake Superior Tribe of Chippewa Indians of the Bad River Reservation, Wisconsin; Bay Mills Indian Community, Michigan; Chippewa Cree Indians of the Rocky Boy's Reservation, Montana; Citizen Potawatomi Nation, Oklahoma; Delaware Nation, Oklahoma; Delaware Tribe of Indians; Forest County Potawatomi Community, Wisconsin; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Traverse Bay Band of Odawa Indians, Michigan; Match-e-be-nash-she-wish Band of Potawatomi Indians of Michigan; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan; Ottawa Tribe of Oklahoma; Peoria Tribe of Indians of Oklahoma; Pokagon Band of Potawatomi Indians, Michigan and Indiana; Prairie Band Potawatomi Nation; Quechan Tribe of the Fort Yuma Indian Reservation, California & Arizona; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Seneca Nation of Indians; Seneca-Cayuga Nation; Shawnee Tribe; Sokaogon Chippewa Community, Wisconsin; St. Croix Chippewa Indians of Wisconsin; Tonawanda Band of Seneca; Turtle Mountain Band of Chippewa Indians of North Dakota; and the Wyandotte Nation.

The Little Traverse Bay Bands of Odawa Indians, Michigan; Saginaw Chippewa Indian Tribe of Michigan; and the Wyandotte Nation requested consultation.

Cultural Affiliation

The following types of information about the cultural affiliation of the human remains and associated funerary objects in this notice are available: geographical.

The information, including the results of consultation, identified:

1. No earlier group connected to the human remains or associated funerary object.

2. The Saginaw Chippewa Indian Tribe of Michigan as an Indian Tribe connected to the human remains and associated funerary objects.

3. No relationship of shared group identity between the earlier group and the Indian Tribe or Native Hawaiian organization that can be reasonably traced through time.

Determinations

The Michigan State University has determined that:

• The human remains described in this notice represent the physical remains of 10 individuals of Native American ancestry.

• The 194 objects described in this notice are reasonably believed to have been placed intentionally with or near individual human remains at the time of death or later as part of the death rite or ceremony.

• No known lineal descendant who can trace ancestry to the human remains and associated funerary objects in this notice has been identified.

• No Indian Tribe or Native Hawaiian organization with cultural affiliation to the human remains and associated funerary objects in this notice has been clearly or reasonably identified.

Requests for Repatriation

Written requests for repatriation of the human remains and associated funerary objects in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains and associated funerary objects described in this notice may occur on or after June 13, 2025. If competing requests for repatriation are received, the Michigan State Police must determine the most appropriate requestor prior to repatriation. Requests for joint repatriation of the human remains and associated funerary objects are considered a single request and not competing requests. The Michigan State Police is responsible for sending a copy of this notice to any consulting lineal descendant, Indian Tribe, or Native Hawaiian organization.

Authority: Native American Graves Protection and Repatriation Act, 25 U.S.C. 3003, and the implementing regulations, 43 CFR 10.10.

Dated: April 30, 2025.
Melanie O'Brien,
Manager, National NAGPRA Program.

[FR Doc. 2025-08477 Filed 5-13-25; 8:45 am]

BILLING CODE 4312-52-P